DEPARTMENT OF HOMELAND SECURITY

Federal Emergency Management Agency

44 CFR Part 67

[Docket No. FEMA-B-7779]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before August 13, 2008.

ADDRESSES: The corresponding preliminary Flood Insurance Rate Map (FIRM) for the proposed BFEs for each community are available for inspection at the community's map repository. The respective addresses are listed in the table below.

You may submit comments, identified by Docket No. FEMA-B-7779, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Douglas County, Nevada, and Incorporated Areas
Airport Tributary Wash | Approximately 5,400 feet upstream of Freemont Street | None | +4958 | Unincorporated Areas of Douglas County
| Approximately 7,445 feet upstream of Freemont Street | None | +5019
Airport Wash | Approximately 2,475 feet upstream of East Valley Road | None | +4902 | Unincorporated Areas of Douglas County.
| Approximately 9,175 feet upstream of East Valley Road | +5015 | +5009
Bobwhite Wash | Confluence with Juniper Road Wash | +5121 | +5123 | Unincorporated Areas of Douglas County.
| Approximately 1,390 feet upstream of confluence with Juniper Road Wash | +5136 | +5135
Buckbrush Wash | Approximately 645 feet downstream of Fuller Avenue | None | +4786 | Unincorporated Areas of Douglas County.
| Approximately 3,320 feet upstream of Lindsay Lane | None | +5019
Buckeye Creek | Approximately 4,933 feet downstream of Orbit Way | None | +4762 | Unincorporated Areas of Douglas County.
| Approximately 7,624 feet upstream of Juniper Road | +4973 | +5008
Calle De Asco Wash | Confluence with Calle Hermosa Wash | None | +5070 | Unincorporated Areas of Douglas County.
| Approximately 3,525 feet upstream of confluence with Calle Hermosa Wash | None | +5114
Calle Hermosa Wash | Approximately 469 feet downstream of Ty Lane | +4881 | +4884 | Unincorporated Areas of Douglas County.
| Approximately 1,598 feet upstream of Calle Hermosa Road | None | +5122
Johnson Lane Wash | Approximately 3,555 feet downstream of Squires Street | None | +4782 | Unincorporated Areas of Douglas County.
| Approximately 2,939 feet upstream of Nye Drive | None | +4991
Juniper Road Wash | Approximately 1,935 feet downstream of Coyote Road | +4880 | +4881 | Unincorporated Areas of Douglas County.
| Approximately 3,500 feet upstream of Carlson Drive | None | +5194
Sunrise Pass Wash | At MacKay Way | None | +4907 | Unincorporated Areas of Douglas County.
| Approximately 3,310 feet upstream of MacKay Way | None | +4991
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Douglas County
Maps are available for inspection at 1615 Eight Street, Minden, NV 89423.
Hertford County, North Carolina, and Incorporated Areas
Ahoskie Creek | At the confluence with Wiccacon River and Bear Swamp | None | +11 | Unincorporated Areas of Hertford County, Town of Ahoskie.
| Approximately 0.7 mile upstream of the confluence with Ahoskie Creek Tributary 8 | None | +62
Ahoskie Creek Tributary 1 | At the confluence with Ahoskie Creek | None | +18 | Unincorporated Areas of Hertford County.
| Approximately 1,325 feet upstream of DT Road (State Road 1419) | None | +23
Ahoskie Creek Tributary 7 | At the confluence with Ahoskie Creek | None | +52 | Unincorporated Areas of Hertford County.
| Approximately 0.5 mile upstream of the confluence with Ahoskie Creek | None | +57
Banks Creek | At the confluence with Kirby Creek | None | +17 | Unincorporated Areas of Hertford County.
| Approximately 960 feet upstream of the confluence with Banks Creek Tributary 1 | None | +18
Banks Creek Tributary 1 | At the confluence with Banks Creek | None | +17 | Unincorporated Areas of Hertford County.
| Approximately 0.9 mile upstream of the confluence with Banks Creek | None | +25
Barbeque Swamp | At the confluence with Chinkapin Creek and Chinkapin Swamp | None | +13 | Unincorporated Areas of Hertford County.
| At the Hertford/Bertie County boundary | None | +19
Bear Swamp | At the confluence with Wiccacon River and Ahoskie Creek | None | +11 | Unincorporated Areas of Hertford County.
| Approximately 1,111 feet upstream of Ahoskie Cofield Road (State Road 1403) | None | +34
Bells Branch | At the confluence with Potecasi Creek | None | +19 | Unincorporated Areas of Hertford County.
| Approximately 2.9 miles upstream of the confluence with Potecasi Creek | None | +33
Bluewater Branch | At the confluence with Cutawhiskie Creek | None | +28 | Unincorporated Areas of Hertford County.
| Approximately 0.5 mile upstream of the confluence with Bluewater Branch Tributary 2 | None | +43
Bluewater Branch Tributary 1 | At the confluence with Bluewater Branch | None | +32 | Unincorporated Areas of Hertford County.
| Approximately 0.5 mile upstream of Leweter Farm Road (State Road 1139) | None | +43
Bluewater Branch Tributary 2 | At the confluence with Bluewater Branch | None | +40 | Unincorporated Areas of Hertford County.
| Approximately 0.4 mile upstream of the confluence with Bluewater Branch | None | +49
Brooks Creek | At the confluence with Wiccacon River | None | +7 | Unincorporated Areas of Hertford County.
| Approximately 1.1 miles upstream of Bazemore Road (State Road 1445) | None | +22
Buckhorn Creek | At the confluence with Chowan River | None | +12 | Unincorporated Areas of Hertford County.
| Approximately 1.1 miles upstream of Buckhorn Church Road (State Road 1316) | None | +59
Catherine Creek | At the confluence with Chowan River | None | +7 | Unincorporated Areas of Hertford County.
| Approximately 1.1 miles upstream of the confluence with Catherine Creek Tributary 1 | None | +20
Catherine Creek Tributary 1 | At the confluence with Catherine Creek | None | +7 | Unincorporated Areas of Hertford County.
| Approximately 0.4 mile upstream of the confluence with Catherine Creek | None | +11
Chinkapin Creek | At the confluence with Wiccacon River | None | +7 | Unincorporated Areas of Hertford County.
| At the confluence of Chinkapin Swamp and Barbeque Swamp | None | +13
Chinkapin Creek Tributary 1 | At the confluence with Chinkapin Creek | None | +7 | Unincorporated Areas of Hertford County.
| Approximately 0.9 mile upstream of the confluence of Chinkapin Creek Tributary 1A | None | +17
Chinkapin Creek Tributary 1A | At the confluence with Chinkapin Creek Tributary 1 | None | +7 | Unincorporated Areas of Hertford County.
| Approximately 0.6 mile upstream of the confluence with Chinkapin Creek Tributary 1 | None | +17
Chinkapin Creek Tributary 2 | At the confluence with Chinkapin Creek | None | +11 | Unincorporated Areas of Hertford County.
| Approximately 1,390 feet upstream of Big Mill Road (State Road 1432) | None | +14
Chinkapin Creek Tributary 3 | At the confluence with Chinkapin Creek | None | +12 | Unincorporated Areas of Hertford County.
| Approximately 0.6 mile upstream of the confluence with Chinkapin Creek | None | +16
Chinkapin Swamp | At the confluence with Barbeque Swamp and Chinkapin Creek | None | +13 | Unincorporated Areas of Hertford County.
| Approximately 0.9 mile upstream of the confluence with Chinkapin Creek and Barbeque Swamp | None | +14
Chowan River | At the Hertford/Bertie/Chowan County boundary | None | +7 | Unincorporated Areas of Hertford County, Town of Winton.
| At the Virginia/North Carolina State boundary | None | +13
Chowan River Tributary 1 | At the confluence with Chowan River | None | +7 | Unincorporated Areas of Hertford County.
| Approximately 1.3 miles upstream of the confluence with Chowan River | None | +39
Cutawhiskie Creek | At the confluence with Potecasi Creek | None | +26 | Unincorporated Areas of Hertford County.
| Approximately 1.2 miles upstream of Fennell Road (State Road 1155) | None | +55
Cutawhiskie Creek Tributary 1 | At the confluence with Cutawhiskie Creek | None | +36 | Unincorporated Areas of Hertford County.
| Approximately 0.9 mile upstream of the confluence with Cutawhiskie Creek | None | +40
Cutawhiskie Creek Tributary 2 | At the confluence with Cutawhiskie Creek | None | +39 | Unincorporated Areas of Hertford County.
| Approximately 0.8 mile upstream of the confluence with Cutawhiskie Creek | None | +43
Cutawhiskie Creek Tributary 3 | At the confluence with Cutawhiskie Creek | None | +49 | Unincorporated Areas of Hertford County.
| Approximately 0.5 mile upstream of the confluence with Cutawhiskie Creek | None | +51
Deep Creek | At the confluence with Chowan River | None | +8 | Unincorporated Areas of Hertford County.
| Approximately 1.2 miles upstream of the confluence with Deep Creek Tributary 1 | None | +21
Deep Creek Tributary 1 | At the confluence with Deep Creek | None | +11 | Unincorporated Areas of Hertford County.
| Approximately 0.6 mile upstream of the confluence with Deep Creek | None | +23
Deep Creek Tributary 2 | At the confluence with Deep Creek | None | +11 | Unincorporated Areas of Hertford County, Village of Cofield.
| Approximately 1.2 miles upstream of the confluence with Deep Creek | None | +22
Deep Swamp | At the confluence with Chowan River | None | +7 | Unincorporated Areas of Hertford County.
| Approximately 1.4 miles upstream of Cullen Road (State Road 1439) | None | +55
Deep Swamp Tributary 1 | At the confluence with Deep Swamp | None | +7 | Unincorporated Areas of Hertford County.
| Approximately 1.5 miles upstream of the confluence with Deep Swamp | None | +26
Deep Swamp Tributary 2 | At the confluence with Deep Swamp | None | +8 | Unincorporated Areas of Hertford County.
| Approximately 0.9 mile upstream of the confluence with Deep Swamp | None | +29
Deep Swamp Tributary 3 | At the confluence with Deep Swamp | None | +8 | Unincorporated Areas of Hertford County.
| Approximately 1.2 miles upstream of the confluence with Deep Swamp | None | +41
Fort Branch | At the confluence with Ahoskie Creek | None | +46 | Unincorporated Areas of Hertford County.
| At the Hertford/Bertie County boundary | None | +55
Hares Branch | At the confluence with Meherrin River | None | +15 | Unincorporated Areas of Hertford County, Town of Murfreesboro.
| Approximately 0.8 mile upstream of U.S. Highway 158 | None | +25
Horse Swamp | At the confluence with Bear Swamp | None | +20 | Unincorporated Areas of Hertford County.
| Approximately 0.7 mile upstream of the Railroad | None | +35
Indian Creek | At the confluence with Cutawhiskie Creek | None | +28 | Unincorporated Areas of Hertford County.
| Approximately 0.4 mile upstream of Flea Hill Road (State Road 1142) | None | +39
Kill 'em Swamp | At the confluence with Long Branch | None | +11 | Unincorporated Areas of Hertford County.
| Approximately 2.0 miles upstream of the confluence with Long Branch | None | +19
Kirby Creek | At the confluence with Meherrin River | None | +17 | Unincorporated Areas of Hertford County.
| Approximately 150 feet downstream of the confluence with Turkey Creek | None | +17
Liverman Creek | At the confluence with Meherrin River | None | +8 | Unincorporated Areas of Hertford County.
| Approximately 0.4 mile upstream of Spiers Road (State Road 1317) | None | +78
Liverman Creek Tributary 1 | At the confluence with Liverman Creek | None | +12 | Unincorporated Areas of Hertford County.
| Approximately 1.3 miles upstream of Parkers Ferry Road (State Road 1306) | None | +21
Liverman Creek Tributary 1A | At the confluence with Liverman Creek Tributary 1 | None | +16 | Unincorporated Areas of Hertford County.
| Approximately 1.7 miles upstream of the confluence with Liverman Creek Tributary 1 | None | +26
Liverman Creek Tributary 2 | At the confluence with Liverman Creek | None | +21 | Unincorporated Areas of Hertford County.
| Approximately 0.7 mile upstream of U.S. Highway 258 | None | +28
Long Branch | At the confluence with Chinkapin Creek | None | +11 | Unincorporated Areas of Hertford County.
| Approximately 1,300 feet upstream of Quebec Road (State Road 1002) | None | +37
Long Branch Tributary 1 | At the confluence with Long Branch | None | +13 | Unincorporated Areas of Hertford County.
| Approximately 0.5 mile upstream of the confluence with Long Branch | None | +19
Long Branch Tributary 2 | At the confluence with Long Branch | None | +15 | Unincorporated Areas of Hertford County.
| Approximately 0.5 mile upstream of Quebec Road (State Road 1002) | None | +29
Long Branch Tributary 3 | At the confluence with Long Branch | None | +20 | Unincorporated Areas of Hertford County.
| Approximately 0.6 mile upstream of the confluence with Long Branch | None | +27
Long Branch Tributary 4 | At the confluence with Long Branch | None | +24 | Unincorporated Areas of Hertford County.
| Approximately 0.7 mile upstream of the confluence with Long Branch | None | +44
Meherrin River | At the confluence with the Chowan River | None | +8 | Unincorporated Areas of Hertford County, Town of Murfreesboro.
| Approximately 50 feet upstream of the Virginia/North Carolina State boundary | None | +26
Meherrin River Tributary 1 | At the confluence with Meherrin River | None | +12 | Unincorporated Areas of Hertford County.
| Approximately 1.9 miles upstream of the confluence with Meherrin River | None | +22
Meherrin River Tributary 2 | At the confluence with Meherrin River | None | +12 | Unincorporated Areas of Hertford County.
| Approximately 0.8 mile upstream of Mapleton Road (State Road 1303) | None | +29
Meherrin River Tributary 3 | At the confluence with Meherrin River | None | +19 | Unincorporated Areas of Hertford County.
| Approximately 0.8 mile upstream of Boones Bridge Road (State Road 1311) | None | +34
Meherrin River Tributary 4 | At the confluence with Meherrin River | None | +19 | Unincorporated Areas of Hertford County.
| Approximately 0.9 mile upstream of Boones Bridge Road (State Road 1311) | None | +25
Mill Branch | At the confluence with Potecasi Creek | None | +8 | Unincorporated Areas of Hertford County.
| Approximately 200 feet downstream of U.S. Highway 158 | None | +17
Mill Branch South | At the confluence with Ahoskie Creek | None | +54 | Unincorporated Areas of Hertford County.
| Approximately 0.8 mile upstream of the confluence with Ahoskie Creek | None | +57
Mill Branch Tributary 1 | At the confluence with Mill Branch | None | +8 | Unincorporated Areas of Hertford County.
| Approximately 0.6 mile upstream of the confluence with Mill Branch | None | +19
Old Tree Swamp | At the confluence with Potecasi Creek | None | +26 | Unincorporated Areas of Hertford County.
| Approximately 1.8 miles upstream of Beaver Dam Road (State Road 1167) | None | +50
Panther Swamp | At the confluence with Potecasi Creek | None | +30 | Unincorporated Areas of Hertford County.
| Approximately 1,170 feet upstream of Pine Tops Road | None | +49
Panther Swamp Tributary 2 | At the confluence with Panther Swamp | None | +44 | Unincorporated Areas of Hertford County.
| Approximately 0.4 mile upstream of the confluence with Panther Swamp | None | +49
Potecasi Creek | At the confluence with the Meherrin River | None | +8 | Unincorporated Areas of Hertford County.
| At the Hertford/Northampton County boundary | None | +36
Potecasi Creek Tributary 1 | At the confluence with Potecasi Creek | None | +10 | Unincorporated Areas of Hertford County.
| Approximately 1.2 miles upstream of U.S. 158 Highway West | None | +36
Potecasi Creek Tributary 2 | At the confluence with Potecasi Creek | None | +23 | Unincorporated Areas of Hertford County.
| Approximately 1,800 feet upstream of Country Club Road (State Road 1108) | None | +28
Potecasi Creek Tributary 3 | At the confluence with Potecasi Creek | None | +26 | Unincorporated Areas of Hertford County.
| Approximately 930 feet downstream of Boone Farm Road (State Route 1108) | None | +30
Snake Branch | At the confluence with Ahoskie Creek | None | +29 | Unincorporated Areas of Hertford County.
| Approximately 1,020 feet upstream of Jernigan Airport Road (State Road 1100) | None | +41
Stony Creek | At the confluence with Ahoskie Creek | None | +25 | Unincorporated Areas of Hertford County.
| The Hertford/Bertie County boundary | None | +25
Turkey Creek | At the confluence with Kirby Creek | None | +17 | Unincorporated Areas of Hertford County.
| Approximately 70 feet upstream of U.S. Highway 158 | None | +50
Turkey Creek (South) | At the confluence with Ahoskie Creek | None | +41 | Unincorporated Areas of Hertford County.
| Approximately 930 feet upstream of NC Highway 11 | None | +49
Turnpike Branch | At the confluence with Wiccacon River | None | +10 | Unincorporated Areas of Hertford County, Village of Cofield.
| Approximately 500 feet upstream of Ahoskie Cofield Road | None | +37
White Oak Swamp | At the confluence with Ahoskie Creek | None | +11 | Unincorporated Areas of Hertford County, Town of Ahoskie.
| Approximately 2.1 miles upstream of Newsome Grove Road | None | +42
Wiccacon River | At the confluence with Chowan River | None | +7 | Unincorporated Areas of Hertford County.
| At the confluence of Ahoskie Creek and Bear Swamp | None | +11
Wiccacon River Tributary 2 | At the confluence with Wiccacon River | None | +7 | Unincorporated Areas of Hertford County.
| Approximately 0.5 mile upstream of Wiccacon Road (State Road 1443) | None | +14
Wiccacon River Tributary 4 | At the confluence with Wiccacon River | None | +8 | Unincorporated Areas of Hertford County.
| Approximately 0.7 mile upstream of the confluence with Wiccacon River | None | +13
Wiccacon River Tributary 6 | At the confluence with Wiccacon River | None | +9 | Unincorporated Areas of Hertford County.
| Approximately 0.5 mile upstream of the confluence with Wiccacon River Tributary 6A | None | +12
Wiccacon River Tributary 6A | At the confluence with Wiccacon River Tributary 6 | None | +9 | Unincorporated Areas of Hertford County.
| Approximately 0.5 mile upstream of the confluence with Wiccacon River Tributary 6 | None | +12
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Ahoskie
Maps are available for inspection at Ahoskie Town Hall, 201 West Main Street, Ahoskie, NC.
Town of Murfreesboro
Maps are available for inspection at Murfreesboro Town Hall, 105 East Broad Street, Murfreesboro, NC.
Town of Winton
Maps are available for inspection at Hertford County Planning Department, 704 North King Street, Winton, NC.
Unincorporated Areas of Hertford County
Maps are available for inspection at Hertford County Planning Department, 704 North King Street, Winton, NC.
Village of Cofield
Maps are available for inspection at Cofield Village Hall, 105 Milton Street, Cofield, NC.
Yadkin County, North Carolina, and Incorporated Areas
North Deep Creek | Approximately 250 feet upstream of the confluence with Deep Creek and South Deep Creek | None | +739 | Unincorporated Areas of Yadkin County, Town of Yadkinville.
| Approximately 1.2 miles upstream of Spencer Road (SR 1385) | None | +1,065
North Deep Creek Tributary 2A | At the confluence with North Deep Creek Tributary 2 | None | +860 | Unincorporated Areas of Yadkin County, Town of Yadkinville.
| Approximately 0.7 mile upstream of the confluence with North Deep Creek Tributary 2 | None | +877
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Boonville
Maps are available for inspection at Boonville Town Hall, 110 North Carolina Avenue, Boonville, NC.
Town of East Bend
Maps are available for inspection at East Bend Town Hall, 108 West Main Street, East Bend, NC.
Town of Jonesville
Maps are available for inspection at Jonesville Town Hall, 136 West Main Street, Jonesville, NC.
Town of Yadkinville
Maps are available for inspection at Yadkinville Town Hall, 213 Van Buren Street, Yadkinville, NC.
Unincorporated Areas of Yadkin County
Maps are available for inspection at Yadkin County Manager's Office, 217 East Willow Street, Yadkinville, NC.

(Catalog of Federal Domestic Assistance No. 97.022, “Flood Insurance.”)

Dated: May 7, 2008.
David I. Maurstad,
Federal Insurance Administrator of the National Flood Insurance Program, Department of Homeland Security, Federal Emergency Management Agency.

[FR Doc. E8-10868 Filed 5-14-08; 8:45 am]

BILLING CODE 9110-12-P